DEPARTMENT OF HEALTH AND HUMAN SERVICES

Notice of Meeting of the Advisory Committee on Minority Health

AGENCY: Office of Minority Health, Office of Public Health and Science, Office of the Secretary, DHHS.

ACTION: Notice.

SUMMARY: As stipulated by the Federal Advisory Committee Act, the Department of Health and Human Services (DHHS) is hereby giving notice that the Advisory Committee on Minority Health (ACMH) will hold a meeting. This meeting is open to the public. Preregistration is required for both public attendance and comment. Any individual who wishes to attend the meeting and/or participate in the public comment session should e-mail acmb@osophs.dhhs.gov.

DATES: The meeting will be held on October 31, 2006, from 8:30 a.m. to 5 p.m.

ADDRESSES: The meeting will be held at the Crowne Plaza Hotel, 8777 Georgia Avenue, Silver Spring, Maryland 20910. The meeting is accessible from the Silver Spring Metro Station. The Crowne Plaza Hotel will provide shuttle service to and from the Silver Spring Metro Station for individuals attending the ACMH meeting on October 31, 2006. Meeting participants can call the hotel at (301) 589-0800 for shuttle pick-up if they don't see the shuttle. Meeting participants may also walk the three short blocks to the hotel from the Silver Spring station by existing onto Wayne Avenue and walking toward the Discovery Building. Make a left onto Georgia Avenue and walk the 1 block toward the Crowne Plaza. The hotel will be on the right-hand side.

FOR FURTHER INFORMATION CONTACT: Ms. Monica A. Baltimore, Tower Building, 1101 Wootton Parkway, Suite 600, Rockville, Maryland 20852. Phone: 240-453-2882 Fax: 240-453-2883.

SUPPLEMENTARY INFORMATION: In accordance with Public Law 105-392, the ACMH was established to provide advice to the Deputy Assistant Secretary for Minority Health in improving the health of each racial and ethnic minority group and on the development of goals and specific program activities of the Office of Minority Health.

Topics to be discussed during this meeting will include strategies to improve the health of racial and ethnic minority populations through the development of health policies and programs that will help eliminate health disparities, as well as other related issues.

Public attendance at the meeting is limited to space available. Individuals who plan to attend and need special assistance, such as sign language interpretation or other reasonable accommodations, should notify the designated contact person at least fourteen business days prior to the meeting. Members of the public will have an opportunity to provide comments at the meeting. Public comments will be limited to three minutes per speaker. Individuals who would like to submit written statements should mail or fax their comments to the Office of Minority Health at least five business days prior to the meeting. Any member of the public who wishes to have printed material distributed to ACMH committee members should submit their materials to Garth Graham, M.D., M.P.H., Executive Secretary, ACMH, Tower Building, 1101 Wootton Parkway, Suite 600, Rockville, Maryland 20852, prior to close of business on October 18, 2006.

October 3, 2006.
Mirtha R. Beadle,
Deputy Director, Office of Minority Health, Office of Public Health and Science, Office of the Secretary, U.S. Department of Health and Human Services.

[FR Doc. 06-8596 Filed 10-10-06; 8:45 am]

BILLING CODE 4150-29-m